FEDERAL ACCOUNTING STANDARDS ADVISORY BOARD

Issuance of Statement of Federal Financial Accounting Standards (SFFAS) No. 22

ACTION: Notice of Issuance of Statement of Federal Financial Accounting Standards (SFFAS) No. 22.

Board Action: Pursuant to the Federal Advisory Committee Act (Pub. L. 92-463), as amended, and the FASAB Rules Of Procedure, as amended in October, 1999, notice is hereby given that the Federal Accounting Standards Advisory Board (FASAB) has issued Statement of Federal Financial Accounting Standards (SFFAS) No. 22, Change in Certain Requirements for Reconciling Obligations and Net Cost of Operations Amendments to SFFAS No. 7, Accounting for Revenue and Other Financing Sources.

The Board approved the Statement in July 2001, and submitted it to FASAB principals for a 90-day review. The review period closed on October 22, 2001.

SFFAS No. 22 Paragraph 80, SFFAS 7, requires, among other things, increases and decreases in receivables from the public related to exchange revenue to be reported as nonbudgetary resources. The Board is deleting, by means of this amendment, the sentence in paragraph 80 that requires such reporting, and making other conformity changes. The effect of this change is that the location of this reconciling item in the statement of financing is no longer specified by the standard.

The standards prescribed in SFFAS No. 22 are effective for periods beginning after September 30, 2000. Hard copies of the statement will be mailed to the FASAB mailing list. It is also available on the FASAB web site at www.financenet.gov/fasab.htm or by calling 202-512-7350.

FOR FURTHER INFORMATION, CONTACT: Wendy Comes, Executive Director, 441 G. St., NW., Mail Stop 6K17V, Washington, DC 20548, or call (202) 512-7350.

Authority: Federal Advisory Committee Act. Pub. L. 92-463.

Dated: October 30, 2001.
Wendy M. Comes,
Executive Director.

[FR Doc. 01-27884 Filed 11-6-01; 8:45 am]

BILLING CODE 1610-01-M